DEPARTMENT OF TRANSPORTATION

Federal Aviation Administration

Notice of Intent To Rule on Application 04-04-C-00-ROA To Impose and Use the Revenue From a Passenger Facility Charge (PFC) at Roanoke Regional Airport, Roanoke, VA

AGENCY: Federal aviation Administration (FAA), DOT.

ACTION: Notice of intent to rule on application.

SUMMARY: The FAA proposes to rule and invites public comment on the application to impose and use the revenue from a PFC at Roanoke Regional Airport under the provisions of the 49 U.S.C. 40117 and part 158 of the Federal Aviation Regulations (14 CFR part 158).

DATES: Comments must be received on or before November 1, 2004.

ADDRESSES: Comments on this application may be mailed or delivered in triplicate to the FAA at the following address:

Washington Airports District Office, 23723 Air Freight Lane, Suite 210, Dulles, Virginia 20166.

In addition, one copy of any comments submitted to the FAA must be mailed or delivered to Ms. Jacqueline L. Shuck, Executive Director, Roanoke Regional Airport of the Roanoke Regional Airport Commission at the following address:

Roanoke Regional Airport Commission, 5202 Aviation Drive, Roanoke, Virginia 24012-1148.

Air carriers and foreign air carriers may submit copies of written comments previously provided to the Roanoke Regional Airport Commission under section 158.23 of Part 158.

FOR FURTHER INFORMATION CONTACT: Mr. Terry J. Page, Manager, Washington Airports District Office, 23723 Air Freight Lane, Suite 210, Dulles, Virginia 20166. Telephone: 703-661-1354.

The application may be reviewed in person at this same location.

SUPPLEMENTARY INFORMATION: The FAA proposes to rule and invites public comment on the application to impose and use the revenue from a PFC at Roanoke Regional Airport under the provisions of the 49 U.S.C. 40117 and part 158 of the Federal Aviation Regulations (14 CFR part 158).

On August 31, 2004, the FAA determined that the application to impose and use the revenue from a PFC submitted by the Roanoke Regional Airport Commission was substantially complete within the requirements of section 158.25 of part 158. The FAA will approve or disapprove the application, in whole or in part, no later than October 28, 2004.

The following is a brief overview of the application.

Proposed charge effective date: January 1, 2005.

Proposed charge expiration date: November 1, 2011.

Level of the proposed PFC: $4.50.

Total estimated PFC revenue: $8,473,680 requested for impose and use.

Brief description of proposed project(s):

1. General Aviation Rehabilitation Phase 1 & 1B (Construct Taxiway and Tie Down).

2. Rehabilitate and Construct Taxiway A, North and Middle Segments.

3. Multi-User Flight Information Display System.

4. Construct Passenger Elevator.

5. Demolish Buildings 13, 14 and 15.

6. Update Noise Exposure Maps.

7. Install Precision Approach Path Indicator (PAPI), Runway 33.

8. Construct Taxiway A—South.

9. Sinkhole Repair on Airfield.

10. Construct Entrance Road and Utilities for General Aviation Area.

11. Purchase Runway Snow Blower.

12. Purchase Rubber Wheel Snow Loader.

13. Rehabilitate Runway 6/24 & Relocate Taxiway E; Rehabilitate Taxiways L, P, G and K.

14. Acquire Passenger Boarding Device.

15. Rehabilitate Terminal Building Facade.

16. Construct Passenger Baggage Ramp.

17. Acquire Land in Runway 24 Runway Protection Zone.

18. Construct Perimeter Fencing and Gate.

19. Rehabilitate Terminal Exterior.

20. Rehabilitate Runway 24 Roadway Tunnel—Phase 2.

21. Acquire Land for Airport Expansion.

22. Acquire Land for Navigational Aid Critical Area.

23. Construct Overhead Directional Signage at Terminal.

24. Install Regional Jet Adapter for Loading Bridge.

25. Relocate Taxiway A & G—Design and Demolish (Phases 1 & 2).

26 Rehabilitate Runway 15/33—Phases 1 & 2 and Construct Runway Safety Area.

27. Install Engineered Arresting Material System (EMAS) for Runway 15/33.

28. Noise Abatement Program Phases 2, 3, 4 (Acquisition of Easements).

29. PFC Program Formulation and Administration.

Class or classes of air carriers which the public agency has requested not be required to collect PFCs: Operations by Air Taxi and Commercial Operators including: Air Lexington, Inc., Florida Jet Service, Inc., Buxmont Aviation Services, Inc., Piedmont Hawthorne Aviation, Inc.

Any person may inspect the application in person at the FAA office listed above under FOR FURTHER INFORMATION CONTACT and at the FAA Regional Airports office located at: Federal Aviation Administration, Eastern Region, 1 Aviation Plaza, Jamaica, New York 11434-4809.

In addition, any person may, upon request, inspect the application, notice and other documents germane to the application in person at the Roanoke Regional Airport Commission.

Issued in Dulles, Virginia, on September 23, 2004.
Terry J. Page,
Manager, Washington Airports District Office, Eastern Region.

[FR Doc. 04-22024 Filed 9-30-04; 8:45 am]

BILLING CODE 4910-13-M